DEPARTMENT OF ENERGY

Federal Energy Regulatory Commission

[Docket No. RP00-224-001]

Transwestern Pipeline Company; Notice of Compliance Filing

May 17, 2000.

Take notice that on May 11, 2000, Transwestern Pipeline Company (Transwestern), tendered for filing as part of its FERC Gas Tariff, Second Revised Volume No. 1, the following tariff sheets, proposed to be effective March 27, 2000:

Substitute Sixth Revised Sheet No. 95E

Substitute Third Revised Sheet No. 95I

Substitute Fifth Revised Sheet No. 95K

Transwestern states that this filing is made to: (1) Comply with the Commission's April 26, 2000 order accepting Transwestern's March 27, 2000 filing, subject to Transwestern's submitting within 15 days of such order, tariff sheets consistent with the requirements of Order No. 637; and (2) to clarify its tariff provisions to allow a releasing shipper to subject its prearranged deal at maximum rates or above maximum rates to further posting and bidding if it desires.

Transwestern further states that copies of the filing have been mailed to each of its customers and interested State Commissions.

Any person desiring to protest this filing should file a protest with the Federal Energy Regulatory Commission, 888 First Street, NE, Washington, DC 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

Linwood A. Watson, Jr.,
Acting Secretary.

[FR Doc. 00-12862 Filed 5-22-00; 8:45 am]

BILLING CODE 6717-01-M